DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL)

Dates and Times:

April 22, 2015 (08:30 a.m.-5:00 p.m. EST)

April 23, 2015 (08:30 a.m.-3:00 p.m. EST)

Place: Webinar and Conference Call Format

Status: The meeting will be open to the public.

Purpose: The ACICBL provides advice and recommendations to the Secretary of the Department of Health and Human Services (Secretary) concerning policy, program development, and other matters of significance related to interdisciplinary, community-based training grant programs authorized under sections 750-759, title VII, part D of the Public Health Service Act, as amended by the Affordable Care Act. The following sections are included under this part: 751—Area Health Education Centers; 752—Continuing Education Support for Health Professionals Serving in Underserved Communities; 753—Geriatrics Workforce Enhancement; 754—Quentin N. Burdick Program for Rural Interdisciplinary Training; 755—Allied Health and Other Disciplines; 756—Mental and Behavioral Health Education and Training, and 759—Program for Education and Training in Pain Care.

The members of the ACICBL will resume their discussion of the legislatively mandated 15th Annual Report to the Secretary of Health and Human Services and Congress. The Committee members will continue to review, discuss, and make recommendations for programs under title VII, part D. The members will hear presentations on allied health, podiatry, chiropractic, pain care management, the budget process, primary care workforce reports, healthcare practice redesign, interprofessional accreditation standards, and performance measurement.

Agenda: Healthcare practice redesign initiatives, such as the Patient-Centered Medical Home Model or the Planned Care Model, are emerging approaches to improve the quality of primary health care delivery. These models are comprehensive, multifaceted, and seek to provide high-quality care and continuity while involving patients, communities, health care teams, and policy makers. The members of the ACICBL will review (a) current issues related to healthcare practice redesign, (b) the implications of practice redesign on health professions education in relation to title VII, part D programs, and (c) accreditation standards for the disciplines that have incorporated interprofessional education into their accreditation standards and the effect this has had on practice. Committee discussion questions include:

• How will changing the scope of practice of health professionals affect title VII, part D programming?

• What statutory changes are needed to align with healthcare practice redesign?

• What measures are needed for title VII, part D programs to have an impact on outcomes and quality?

The official agenda will be available 2 days prior to the meeting on the HRSA Web site at: http://www.hrsa.gov/advisorycommittees/bhpradvisory/acicbl/index.html. Agenda items are subject to change as priorities dictate.

Public Comment: Requests to make oral comments or provide written comments to the ACICBL should be sent to Dr. Joan Weiss, Designated Federal Official, using the address and phone number below. Individuals who plan to participate on the conference call or webinar should notify Dr. Weiss at least 3 days prior to the meeting, using the address and phone number below. Members of the public will have the opportunity to provide comments. Interested parties should refer to the meeting subject as the HRSA Advisory Committee on Interdisciplinary, Community-Based Linkages.

The conference call-in number is 877-960-9066. The passcode is: 5919914.

The webinar link is: https://hrsa.connectsolutions.com/acicblapril22_23/.

FOR FURTHER INFORMATION CONTACT: Anyone requesting information regarding the ACICBL should contact Dr. Joan Weiss, Designated Federal Official within the Bureau of Health Workforce, Health Resources and Services Administration, in one of three ways: (1) Send a request to the following address: Dr. Joan Weiss, Designated Federal Official, Bureau of Health Workforce, Health Resources and Services Administration, Parklawn Building, Room 12C-05, 5600 Fishers Lane, Rockville, Maryland 20857; (2) call (301) 443-0430; or (3) send an email to jweiss@hrsa.gov.

Jackie Painter,
Director, Division of the Executive Secretariat.

[FR Doc. 2015-07154 Filed 3-27-15; 8:45 am]

BILLING CODE 4165-15-P